SMALL BUSINESS ADMINISTRATION

[Disaster Declaration #11416 and #11417]

North Carolina Disaster #NC-00013

AGENCY: U.S. Small Business Administration.

ACTION: Notice.

SUMMARY: This is a notice of an Administrative declaration of a disaster for the State of North Carolina dated 09/04/2008.

Incident: Severe Storms and Flooding.

Incident Period: 08/26/2008 through 08/27/2008.

Effective Date: 09/04/2008.

Physical Loan Application Deadline Date: 11/03/2008.

Economic Injury (EIDL) Loan Application Deadline Date: 06/04/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties:

Cabarrus, Mecklenburg.

Contiguous Counties:

North Carolina: Gaston, Iredell, Lincoln, Rowan, Stanly, Union.

South Carolina: Lancaster, York.

The Interest Rates are:

| Percent
Homeowners With Credit Available Elsewhere | 5.750
Homeowners Without Credit Available Elsewhere | 2.875
Businesses With Credit Available Elsewhere | 8.000
Businesses & Small Agricultural Cooperatives Without Credit Available Elsewhere | 4.000
Other (Including Non-Profit Organizations) With Credit Available Elsewhere | 5.250
Businesses And Non-Profit Organizations Without Credit Available Elsewhere | 4.000
The number assigned to this disaster for physical damage is 11416 B and for economic injury is 114170.

The States which received an EIDL Declaration # are North Carolina, South Carolina.

(Catalog of Federal Domestic Assistance Numbers 59002 and 59008)

Dated: September 4, 2008.
Sandy K. Baruah,
Acting Administrator.

[FR Doc. E8-21270 Filed 9-11-08; 8:45 am]

BILLING CODE 8025-01-P